DEPARTMENT OF ENERGY

Federal Energy Regulatory Commission

Combined Notice of Filings #1

Take notice that the Commission received the following electric corporate filings:

Docket Numbers: EC13-76-000.

Applicants: Tucson Electric Power Company.

Description: Application of Tucson Electric Power Company under FPA Section 203.

Filed Date: 2/26/13.

Accession Number: 20130226-5059.

Comments Due: 5 p.m. ET 3/19/13.

Take notice that the Commission received the following electric rate filings:

Docket Numbers: ER10-1942-007; ER10-2042-010; ER10-1941-003; ER11-3840-001; ER10-1938-005; ER10-1937-003; ER10-1898-004; ER10-1934-004; ER10-1893-004; ER10-1888-003; ER10-1885-003; ER10-1884-003; ER10-1883-003; ER10-1878-003; ER10-1876-003; ER10-1875-003; ER10-1873-003; ER12-1987-001; ER10-1947-003; ER10-1864-003; ER10-1867-003; ER10-1862-004; ER12-2261-001; ER10-1865-003.

Applicants: Calpine Construction Finance Company, LP, Calpine Energy Services L.P., Calpine Gilroy Cogen, L.P., Calpine Greenleaf, Inc., Calpine Power America—CA, LLC, Calpine Power America—OR, LLC,CES Marketing V, L.P.,CES Marketing IX, LLC,CES Marketing X, LLC, Creed Energy Center, LLC, Delta Energy Center, LLC, Geysers Power Company, LLC, Gilroy Energy Center, LLC, Goose Haven Energy Center, LLC, Los Esteros Critical Energy Facility, LLC, Los Medanos Energy Center LLC, Metcalf Energy Center, LLC,O.L.S. Energy—Agnews, Inc., Otay Mesa Energy Center, LLC, Pastoria Energy Center, LLC, PCF2, LLC, Power Contract Finance, L.L.C., Russell City Energy Company, LLC, South Point Energy Center, LLC.

Description: Notification of Change in Status of Calpine Construction Finance Company, L.P., et al.

Filed Date: 2/25/13.

Accession Number: 20130225-5177.

Comments Due: 5 p.m. ET 3/18/13.

Docket Numbers: ER11-4050-001; ER11-4027-002; ER11-4028-002.

Applicants: Cogentrix of Alamosa, LLC, Portsmouth Genco, LLC, James River Genco, LLC.

Description: Supplement to January 14, 2013 Notice of Non-Material Change in Status of Cogentrix of Alamosa, LLC, et al.

Filed Date: 2/7/13.

Accession Number: 20130207-5093.

Comments Due: 5 p.m. ET 3/12/13.

Docket Numbers: ER13-523-001.

Applicants: Trans Bay Cable LLC.

Description: Revised Annual TRBAA Update to be effective 1/1/2013.

Filed Date: 2/25/13.

Accession Number: 20130225-5140.

Comments Due: 5 p.m. ET 3/18/13.

Docket Numbers: ER13-977-000.

Applicants: Pacific Gas and Electric Company.

Description: Notice of Termination of SPS Corcoran E&P Agreement to be effective 1/3/2012.

Filed Date: 2/25/13.

Accession Number: 20130225-5000.

Comments Due: 5 p.m. ET 3/18/13.

Docket Numbers: ER13-980-000.

Applicants: Midwest Independent Transmission System Operator, Inc.

Description: 2013-02-25 RSG TLR Filing to be effective 4/27/2013.

Filed Date: 2/25/13.

Accession Number: 20130225-5051.

Comments Due: 5 p.m. ET 3/18/13.

Docket Numbers: ER13-981-000.

Applicants: Ontario Power Generation Inc.

Description: Ontario Power Generation Inc. submits Refund Report for recent energy sales in the New York Independent System Operator, Inc.

Filed Date: 2/25/13.

Accession Number: 20130225-5088.

Comments Due: 5 p.m. ET 3/18/13.

Docket Numbers: ER13-982-000.

Applicants: Southwestern Electric Power Company.

Description: SWEPCO-Golden Spread EC and Greenbelt EC DPA to be effective 1/25/2013.

Filed Date: 2/25/13.

Accession Number: 20130225-5119.

Comments Due: 5 p.m. ET 3/18/13.

Docket Numbers: ER13-983-000.

Applicants: Arizona Public Service Company.

Description: Arizona Public Service files MPP Westwing Substation Construction Agreement to be effective 4/26/2013.

Filed Date: 2/25/13.

Accession Number: 20130225-5178.

Comments Due: 5 p.m. ET 3/18/13.

Docket Numbers: ER13-984-000.

Applicants: Midwest Independent Transmission System Operator, Inc.

Description: 2013-02-25 RSG Sign Convention Filing to be effective 4/27/2013.

Filed Date: 2/25/13.

Accession Number: 20130225-5179.

Comments Due: 5 p.m. ET 3/18/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 26, 2013.
Nathaniel J. Davis, Sr.,
Deputy Secretary.

[FR Doc. 2013-05529 Filed 3-8-13; 8:45 am]

BILLING CODE 6717-01-P